DEPARTMENT OF AGRICULTURE

Forest Service

Boundary Establishment for Wildcat National Wild and Scenic River, White Mountain National Forest, Carroll County, New Hampshire State

AGENCY: Forest Service, USDA.

ACTION: Notice of availability.

SUMMARY: In accordance with Section 3(b) of the Wild and Scenic Rivers Act, the USDA Forest Service, Washington Office, is transmitting the final boundary of the Wildcat National Wild and Scenic River to Congress. The Wild and Scenic Rivers Act requires that each federally administered river in the National System have a legally established boundary.

FOR FURTHER INFORMATION CONTACT: The Wildcat Wild and Scenic River boundary is available for review at the following offices: USDA Forest Service, Wilderness & Wild and Scenic Rivers, 1400 Independence Avenue, SW., Washington, DC 20024; USDA Forest Service Eastern Region, 626 East Wisconsin Avenue, Milwaukee, Wisconsin, 53202; and, White Mountain National Forest, 719 North Main Street, Laconia, New Hampshire 03246. A detailed legal description is available upon request.

Additional information may be obtained by contacting Holly Jewkes, White Mountain National Forest, 33 Kancamagus Highway, Conway, New Hampshire, (603)447-5448, or via e-mail at hjewkes@fs.fed.us.

SUPPLEMENTARY INFORMATION: The Wild and Scenic Rivers Act, as amended, (Pub. L. 100-554 of October 1988) designated the Wildcat River, New Hampshire, as a National Wild and Scenic River, to be administered by the Secretary of Agriculture. As specified by law, the boundary will not be effective until ninety days after Congress receives the transmittal.

Dated: April 3, 2008.
Thomas G. Wagner,
Forest Supervisor, White Mountain National Forest.

[FR Doc. E8-7559 Filed 4-10-08; 8:45 am]

BILLING CODE 3410-11-M